DEPARTMENT OF COMMERCE

International Trade Administration

[A-489-501]

Circular Welded Carbon Steel Standard Pipe and Tube Products From Turkey: Final Results of Antidumping Duty Administrative Review; 2021-2022

AGENCY: Enforcement and Compliance, International Trade Administration, Department of Commerce.

SUMMARY: The U.S. Department of Commerce (Commerce) determines that sales of circular welded carbon steel standard pipe and tube products from Turkey were made at less than normal value (NV) during the period of review (POR) May 1, 2021, through April 30, 2022.

DATES: Applicable December 8, 2023.

FOR FURTHER INFORMATION CONTACT: Paul Kebker, AD/CVD Operations, Office IV, Enforcement and Compliance, International Trade Administration, U.S. Department of Commerce, 1401 Constitution Avenue NW, Washington, DC 20230; telephone: (202) 482-2254.

SUPPLEMENTARY INFORMATION:

Background

On June 7, 2023, Commerce published the Preliminary Results and invited interested parties to comment.¹ These final results cover one producer and exporter of subject merchandise for which an administrative review was initiated and not rescinded. The sole respondent in this administrative review is Borusan Mannesmann Boru Sanayi ve Ticaret A.S. (Borusan Mannesmann) and Borusan Istikbal Ticaret T.A.S. (Istikbal) (collectively, Borusan).² On July 7, 2023, Borusan submitted a case brief.³ On July 14, 2023, Wheatland Tube Company (Wheatland), a domestic producer and interested party, submitted a rebuttal brief.⁴ On September 6, 2023, Commerce extended the deadline for the final results by 57 days to December 1, 2023.⁵ Commerce conducted this review in accordance with section 751(a)(1)(B) of the Tariff Act of 1930, as amended (the Act).

¹ See Circular Welded Carbon Steel Standard Pipe and Tube Products From Turkey: Preliminary Results and Partial Rescission of Antidumping Duty Administrative Review; 2021-2022, 88 FR 37204 (June 7, 2023) (Preliminary Results), and accompanying Preliminary Decision Memorandum.

² See Memorandum, “Administrative Review of the Antidumping Duty Order on Welded Carbon Steel Standard Pipe and Tube Products from Turkey: Respondent Selection,” dated August 30, 2022.

³ See Borusan's Letter, “BMB's Case Brief,” dated July 7, 2023 (Borusan's Case Brief).

⁴ See Wheatland's Letter, “Rebuttal Brief,” dated July 14, 2023 (Wheatland's Rebuttal Brief).

⁵ See Memorandum, “Circular Welded Carbon Steel Standard Pipe and Tube Products from Turkey: Extension of Deadline for Final Results of Antidumping Duty Administrative Review; 2021-2022,” dated September 6, 2023.

On October 12, 2022, Nucor Tubular Products Inc. (Nucor), a petitioner in this proceeding, withdrew its request for an administrative review with respect to every company except Borusan.⁶ With respect to Istikbal, one of the companies which claimed no shipments during the POR, we continue ⁷ to find it to be part of the single entity, Borusan, and we find no record evidence that warrants altering this treatment. Further, no party presented comments addressing this issue in their case briefs. Therefore, because we find that Borusan had shipments during this POR, we have not made a determination of no shipments with respect to Istikbal and the withdrawal of request for review is moot.

⁶ See Nucor's Letter, “Partial Withdrawal of Request for Administrative Revew,” dated October 12, 2022.

⁷ In prior segments of this proceeding, we treated Borusan Mannesmann Boru Sanayi ve Ticaret A.S. and Borusan Istikbal Ticaret T.A.S. as a single entity. See, e.g., Welded Carbon Steel Standard Pipe and Tube Products from Turkey: Final Results of Antidumping Duty Administrative Review and Final Determination of No Shipments; 2013-2014, 80 FR 76674, 76674 n.2 (December 10, 2015).

Scope of the Order ⁸

⁸ See Antidumping Duty Order; Welded Carbon Steel Standard Pipe and Tube Products from Turkey, 51 FR 17784 (May 15, 1986) (Order).

The scope of the Order covers circular welded carbon steel standard pipe and tube products from Turkey. A full description of the scope of the Order is contained in the Issues and Decision Memorandum.⁹

⁹ See Memorandum, “Issues and Decisions Memorandum for the Final Results of the Antidumping Duty Administrative Review: Circular Welded Carbon Steel Standard Pipe and Tube Products from Turkey; 2021-2022,” dated concurrently with, and hereby adopted by, this notice (Issues and Decision Memorandum).

Analysis of Comments Received

All issues raised in the case and rebuttal briefs filed by parties in this review are addressed in the Issues and Decision Memorandum. A list of the issues addressed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on our analysis of the comments received, and for the reasons explained in the Issues and Decision Memorandum, we made certain changes from the Preliminary Results.¹⁰

¹⁰ Id.

Final Results of Administrative Review

For these final results, we determine that the following weighted-average dumping margin exists for the period May 1, 2021, through April 30, 2022:

Exporter/manufacturer | Weighted- average dumping margin (percent)
Borusan Mannesmann Boru Sanayi ve Ticaret A.S./Borusan Istikbal Ticaret T.A.S | 5.27

Disclosure

Commerce intends to disclose the calculations performed in connection with these final results of review to parties in this review within five days after public announcement of the final results or, if there is no public announcement, within five days of the date of publication of this notice in the Federal Register, in accordance with 19 CFR 351.224(b).

Assessment Rates

Commerce shall determine, and U.S. Customs and Border Protection (CBP) shall assess, antidumping duties on all appropriate entries of subject merchandise in accordance with the final results of this review. For Borusan, we calculated importer-specific assessment rates on the basis of the ratio of the total amount of dumping calculated for each importer's examined sales and the total entered value of those sales in accordance with 19 CFR 351.212(b)(1). Where an importer-specific assessment rate is de minimis (i.e., less than 0.5 percent), the entries by that importer will be liquidated without regard to antidumping duties. For entries of subject merchandise during the POR produced by Borusan for which it did not know its merchandise was destined for the United States, we will instruct CBP to liquidate unreviewed entries at the all-others rate if there is no rate for the intermediate company(ies) involved in the transaction.¹¹

¹¹ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements for estimated antidumping duties will be effective upon publication of this notice for all shipments of circular welded carbon steel standard pipe and tube products from Turkey entered, or withdrawn from warehouse, for consumption on or after the date of publication as provided by section 751(a)(2) of the Act: (1) the cash deposit rate for the companies subject to this review will be equal to the company-specific weighted-average dumping margin established in the final results of the review; (2) for merchandise exported by producers or exporters not covered in this review but covered in a prior completed segment of the proceeding, the cash deposit rate will continue to be the company-specific rate published in the completed segment for the most recent period; (3) if the exporter is not a firm covered in this review, a prior review, or the original investigation, but the producer has been covered in a prior completed segment of this proceeding, then the cash deposit rate will be the rate established in the completed segment for the most recent period for the producer of the merchandise; (4) the cash deposit rate for all other producers or exporters will continue to be 14.74 percent, the all-others rate established in the less-than-fair-value investigation of this proceeding.¹² These cash deposit requirements, when imposed, shall remain in effect until further notice.

¹² See Order, 51 FR 17784.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order (APO)

This notice also serves as a reminder to parties subject to APO of their responsibility concerning the destruction or return of proprietary information disclosed under APO in accordance with 19 CFR 351.305(a)(3), which continues to govern business proprietary information in this segment of the proceeding. Timely written notification of the destruction or return of APO materials or conversion to judicial protective order is hereby requested. Failure to comply with the regulations and terms of an APO is a sanctionable violation.

Notification to Interested Parties

We are issuing and publishing this notice in accordance with sections 751(a)(1) and 777(i)(1) of the Act, and 19 CFR 351.221(b)(5).

Dated: December 1, 2023.
Abdelali Elouaradia,
Deputy Assistant Secretary for Enforcement and Compliance.

Appendix—List of Topics Discussed in the Issues and Decision Memorandum

I. Summary

II. Background

III. Scope of the Order

IV. Changes Since the Preliminary Results

V. Discussion of the Issues

Comment 1: Whether Commerce Must Account for Borusan's Cost Recovery Pursuant to Statute

Comment 2: Whether Commerce Must Perform the Export Subsidy Offset in the Final Results

Comment 3: Whether Commerce's Application of its Differential Pricing Methodology is Contrary to Law

VI. Recommendation

[FR Doc. 2023-26937 Filed 12-7-23; 8:45 am]

BILLING CODE 3510-DS-P